DEPARTMENT OF TRANSPORTATION

Federal Aviation Administration

14 CFR Part 97

[Docket No. 30193; Amdt. No. 2011]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of changes occurring in the National Airspace System, such as the commissioning of new navigational facilities, addition of new obstacles, or changes in air traffic requirements. These changes are designed to provide safe and efficient use of the navigable airspace and to promote safe flight operations under instrument flight rules at the affected airports.

DATES: An effective date for each SIAP is specified in the amendatory provisions.

Incorporation by reference-approved by the Director of the Federal Register on December 31, 1980, and reapproved as of January 1, 1982.

ADDRESSES: Availability of matter incorporated by reference in the amendment is as follows:

For Examination

1. FAA Rules Docket, FAA Headquarters Building, 800 Independence Avenue, SW., Washington, DC 20591;

2. The FAA Regional Office of the region in which affected airport is located; or

3. The Flight Inspection Area Office which originated the SIAP.

For Purchase

Individual SIAP copies may be obtained from:

1. FAA Public Inquiry Center (APA-200), FAA Headquarters Building, 800 Independence Avenue, SW., Washington, DC 20591; or

2. The FAA Regional Office of the region in which the affected airport is located.

By Subscription

Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This amendment to part 97 of the Federal Aviation Regulations (14 CFR part 97) establishes, amends, suspends, or revokes Standard Instrument Approach Procedures (SIAPs). The complete regulatory description on each SIAP is contained in the appropriate FAA Form 8260 and the National Flight Data Center (FDC)/Permanent (P) Notices to Airmen (NOTAM) which are incorporated by reference in the amendment under 5 U.S.C. 552(a), 1 CFR part 51, and § 97.20 of the Federal Aviation's Regulations (FAR). Materials incorporated by reference are available for examination or purchase as stated above.

The large number of SIAPs, their complex nature, and the need for a special format make their verbatim publication in the Federal Register expensive and impractical. Further, airmen do not use the regulatory text of the SIAPs, but refer to their graphic depiction of charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 of the Federal Aviation Regulations (14 CFR part 97) establishes, amends, suspends, or revokes SIAPs. For safety and timeliness of change considerations, this amendment incorporates only specific changes contained in the content of the following FDC/P NOTAMs for each SIAP. The SIAP information in some previously designated FDC/Temporary (FDC/T) NOTAMs is of such duration as to be permanent. With conversion to FDC/P NOTAMs, the respective FDC/T NOTAMs have been canceled.

The FDC/P NOTAMs for the SIAPs contained in this amendment are based on the criteria contained in the U.S. Standard for Terminal Instrument Procedures (TERPS). In developing these chart changes to SIAPs by FDC/P NOTAMs, the TERPS criteria were applied to only these specific conditions existing at the affected airports. All SIAP amendments in this rule have been previously issued by the FAA in a National Flight Data Center (FDC) Notice to Airmen (NOTAM) as an emergency action of immediate flight safety relating directly to published aeronautical charts. The circumstances which created the need for all these SIAP amendments requires making them effective in less than 30 days.

Further, the SIAPs contained in this amendment are based on the criteria contained in the TERPS. Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Navigation (air).

Issued in Washington, DC on September 15, 2000.
L. Nicholas Lacey,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 is revised to read as follows:

Authority: 49 U.S.C. 40103, 40113, 40120, 44701; 49 U.S.C. 106(g); and 14 CFR 11.49(b)(2).

2. Part 97 is amended to read as follows:

§§ 97.23, 97.25, 97.27, 97.29, 97.31, 97.33, 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS, MLS/DME, MLS/RNAV; § 97.31 RADAR SIAPs; § 97.33 RNAV SIAPs; and § 97.35 COPTER SIAPs, identified as follows:

. . . Effective Upon Publication

FDC date | State | City | Airport | FDC No. | SIAP
08/17/00 | OK | CLINTON | CLINTON-SHERMAN | FDC 0/9814 | NDB RWY 17R, AMDT 10...
08/17/00 | OK | CLINTON | CLINTON-SHERMAN | FDC 0/9816 | GPS RWY 17R, ORIG...
08/17/00 | OK | CLINTON | CLINTON-SHERMAN | FDC 0/9820 | VOR RWY 35L, AMDT 11B...
08/17/00 | OK | CUSHING | CUSHING MUNI | FDC 0/9817 | NDB OR GPS RWY 35, AMDT 3B...
08/17/00 | OK | DUNCAN | DUNCAN/HALLIBURTON FIELD | FDC 0/9860 | LOC RWY 35, AMDT 4A...
08/17/00 | OK | DUNCAN | DUNCAN/HALLIBURTON FIELD | FDC 0/9867 | VOR RWY 35, AMDT 10B...
08/17/00 | OK | DUNCAN | DUNCAN/HALLIBURTON FIELD | FDC 0/9868 | GPS RWY 35, ORIG...
08/21/00 | IL | SPRINGFIELD | CAPITAL | FDC 0/0094 | VOR RWY 22, AMDT 20...
08/21/00 | IL | SPRINGFIELD | CAPITAL | FDC 0/0095 | ILS RWY 4, AMDT 24A...
08/21/00 | LA | HOUMA | HOUMA-TERREBONNE | FDC 0/0088 | NDB RWY 18, AMDT 4A...
08/21/00 | ND | FARGO | HECTOR INTL | FDC 0/0083 | RNAV RWY 26, ORIG...
08/21/00 | OK | CHICKASHA | CHICKASHA MUNI | FDC 0/0084 | VOR/DME RNAV RWY 35, AMDT 1... THIS REPLACES FDC 0/9774
08/21/00 | OK | CHICKASHA | CHICKASHA MUNI | FDC 0/0086 | GPS RWY 35, ORIG... THIS REPLACES FDC 0/9773
08/21/00 | OK | HOBART | HOBART MUNI | FDC 0/0048 | VOR RWY 35, AMDT 8...
08/21/00 | OK | HOBART | HOBART MUNI | FDC 0/0049 | GPS RWY 35, ORIG...
08/21/00 | OK | HOBART | HOBART MUNI | FDC 0/0050 | GPS RWY 17, ORIG...
08/22/00 | KS | COFFEYVILLE | COFFEYVILLE MUNI | FDC 0/0164 | VOR/DME RNAV RWY 35, AMDT 3A...
08/22/00 | KS | COFFEYVILLE | COFFEYVILLE MUNI | FDC 0/0165 | NDB OR GPS RWY 35, ORIG-A...
08/22/00 | KS | IOLA | ALLEN COUNTY | FDC 0/0159 | GPS RWY 19, ORIG-A...
08/22/00 | KS | IOLA | ALLEN COUNTY | FDC 0/0161 | NDB RWY 1, AMDT 1A...
08/22/00 | KS | IOLA | ALLEN COUNTY | FDC 0/0162 | GPS RWY 1, ORIG-A...
08/22/00 | LA | NEW ORLEANS | LAKEFRONT | FDC 0/0179 | VOR/DME OR GPS RWY 36L, AMDT 8...
08/22/00 | LA | NEW ORLEANS | LAKEFRONT | FDC 0/0181 | ILS RWY 18R, AMDT 12A...
08/22/00 | LA | NEW ORLEANS | LAKEFRONT | FDC 0/0182 | GPS RWY 18R, ORIG...
08/22/00 | OK | EL RENO | EL RENO MUNI AIR PARK | FDC 0/0155 | VOR/DME RWY 35, AMDT 1...
08/22/00 | TX | MARSHALL | HARRISON COUNTY | FDC 0/0185 | VOR/DME-A, AMDT 4C...
08/22/00 | TX | MARSHALL | HARRISON COUNTY | FDC 0/0186 | GPS RWY 33, ORIG-C...
08/23/00 | AK | BETHEL | BETHEL | FDC 0/0167 | LOC/DME BC RWY 36, AMDT 5...
08/23/00 | IL | ROCKFORD | GREATER ROCKFORD | FDC 0/0152 | ILS RWY 1, AMDT 28...
08/23/00 | IL | ROCKFORD | GREATER ROCKFORD | FDC 0/0153 | NDB OR GPS RWY 1, AMDT 25A...
08/23/00 | IN | INDIANAPOLIS | INDIANAPOLIS METROPOLITAN | FDC 0/0129 | GPS RWY 33, ORIG...
08/23/00 | MI | BENTON HARBOR | SOUTHWEST MICHIGAN REGIONAL | FDC 0/0158 | VOR RWY 27, AMDT 18A...
08/23/00 | MI | GRAYLING | GRAYLING AAF | FDC 0/0205 | VOR RWY 14, AMDT 1A...
08/23/00 | MT | LIVINGSTON | MISSION FIELD | FDC 0/0146 | VOR/DME OR GPS-B, AMDT 1...
08/23/00 | MT | LIVINGSTON | MISSION FIELD | FDC 0/0150 | VOR OR GPS-A, AMDT 5...
08/23/00 | NJ | NEWARK | NEWARK INTL | FDC 0/0124 | ILS RWY 4L, AMDT 12A...
08/23/00 | NJ | NEWARK | NEWARK INTL | FDC 0/0190 | COPTER ILS/DME RWY 4L, AMDT 1A...
08/23/00 | OK | OKLAHOMA CITY | CLARENCE E. PAGE MUNI | FDC 0/0209 | VOR/DME RNAV RWY 17R, AMDT 1...
08/23/00 | OK | OKLAHOMA CITY | CLARENCE E. PAGE MUNI | FDC 0/0211 | VOR/DME RNAV RWY 35L, AMDT 1...
08/23/00 | OK | OKLAHOMA CITY | CLARENCE E. PAGE MUNI | FDC 0/0221 | GPS RWY 35L, ORIG...
08/23/00 | TN | ONEIDA | SCOTT MUNI | FDC 0/0119 | SDF RWY 23, AMDT 4...
08/23/00 | TN | ONEIDA | SCOTT MUNI | FDC 0/0137 | NDB OR GPS RWY 23, AMDT 4A...
08/23/00 | UT | SALT LAKE CITY | SALT LAKE CITY INTL | FDC 0/0235 | GPS RWY 17, ORIG-A...
08/23/00 | WY | PINEDALE | RALPH WENZ FIELD | FDC 0/0172 | NDB OR GPS RWY 29, ORIG-A...
08/24/00 | OK | TULSA | TULSA INTL | FDC 0/0273 | NDB RWY 36R, AMDT 19E...
08/24/00 | TX | MARSHALL | HARRISON COUNTY | FDC 0/0280 | VOR/DME RNAV RWY 33, AMDT 1B...
08/25/00 | MS | HOLLY SPRINGS | HOLY SPRINGS-MARSHALL COUNTY | FDC 0/0341 | VOR/DME OR GPS RWY 18, AMDT 6...
08/28/00 | IA | CEDAR RAPIDS | THE EASTERN IOWA | FDC 0/0454 | GPS RWY 13, ORIG-A...
08/28/00 | IA | CEDAR RAPIDS | THE EASTERN IOWA | FDC 0/0455 | GPS RWY 31, ORIG-B...
08/28/00 | OK | OKLAHOMA CITY | CLARENCE E. PAGE MUNI | FDC 0/0450 | GPS RWY 17R, ORIG...
08/28/00 | OK | OKLAHOMA CITY | SUNDANCE AIRPARK | FDC 0/0416 | VOR/DME RNAV RWY 35, ORIG...
08/28/00 | OK | OKLAHOMA CITY | WILEY POST | FDC 0/0414 | VOR RWY 17L, AMDT 11...
08/28/00 | OK | OKLAHOMA CITY | WILEY POST | FDC 0/0415 | VOR OR GPS-A, AMDT 2...
08/28/00 | OK | OKMULGEE | OKMULGEE MUNI | FDC 0/0432 | NDB RWY 17, AMDT 3A...
08/28/00 | TX | CORPUS CHRISTI | CORPUS CHRISTI INTL | FDC 0/0443 | GPS RWY 31, ORIG...
08/29/00 | GA | CORNELIA | HABERSHAM COUNTY | FDC 0/0521 | VOR/DME OR GPS RWY 6, AMDT 5...
08/29/00 | GA | TIFTON | HENRY TIFT MYERS | FDC 0/0513 | NDB OR GPS RWY 33, ORIG...
08/29/00 | GA | TIFTON | HENRY TIFT MYERS | FDC 0/0523 | ILS RWY 33, ORIG-A...
08/29/00 | GA | TIFTON | HENRY TIFT MYERS | FDC 0/0525 | VOR RWY 33, AMDT 11A...
08/29/00 | NM | GALLUP | GALLUP MUNI | FDC 0/0485 | GPS RWY 6, ORIG...
08/29/00 | NM | GALLUP | GALLUP MUNI | FDC 0/0486 | GPS RWY 24, ORIG...
08/29/00 | OK | SAND SPRINGS | WILLIAM R. POGUE MUNI | FDC 0/0527 | GPS RWY 35, ORIG...
08/30/00 | GA | CEDARTOWN | CORNELIUS-MOORE | FDC 0/0552 | VOR/DME RNAV OR GPS RWY 10, AMDT 2A...
08/30/00 | GA | CEDARTOWN | CORNELIUS-MOORE | FDC 0/0554 | VOR OR GPS-A, AMDT 12A...
08/30/00 | GA | CEDARTOWN | CORNELIUS-MOORE | FDC 0/0555 | VOR/DME RNAV OR GPS RWY 28, AMDT 2...
08/30/00 | IA | CEDAR RAPIDS | THE EASTERN IOWA | FDC 0/0559 | VOR OR GPS RWY 27, AMDT 11A...
08/30/00 | IA | CEDAR RAPIDS | THE EASTERN IOWA | FDC 0/0561 | ILS RWY 27, AMDT 4...
08/30/00 | MI | MARQUETTE | SAWYER INTL | FDC 0/0558 | ILS RWY 1, ORIG...
08/30/00 | NC | RALEIGH/DURHAM | RALEIGH-DURHAM INTL | FDC 0/0573 | ILS RWY 5R, AMDT 25B...
08/30/00 | OH | COSHOCTON | RICHARD DOWNING | FDC 0/0567 | VOR OR GPS-A, AMDT 9...
08/30/00 | PA | HAZELTON | HAZELTON MUNI | FDC 0/0580 | VOR RWY 28, AMDT 5C...
08/30/00 | PA | HAZELTON | HAZELTON MUNI | FDC 0/0583 | VOR RWY 10, AMDT 10C...
08/31/00 | AR | ASH FLAT | SHARP COUNTY REGIONAL | FDC 0/0645 | NDB RWY 3, AMDT 1A...
08/31/00 | AR | ASH FLAT | SHARP COUNTY REGIONAL | FDC 0/0646 | GPS RWY 3, ORIG-A...
08/31/00 | AR | CAMDEN | HARRELL FIELD | FDC 0/0667 | VOR/DME OR GPS RWY 36, AMDT 8...
08/31/00 | GA | CORNELIA | HABERSHAM COUNTY | FDC 0/0633 | NDB RWY 6, AMDT 1B...
08/31/00 | MD | CUMBERLAND | GREATER CUMBERLAND REGIONAL | FDC 0/0672 | NDB-A, AMDT 8A...
08/31/00 | MD | CUMBERLAND | GREATER CUMBERLAND REGIONAL | FDC 0/0673 | LOC/DME RWY 23, AMDT 5E..
08/31/00 | MD | CUMBERLAND | GREATER CUMBERLAND REGIONAL | FDC 0/0674 | LOC-A, AMDT 3D...
08/31/00 | MO | ST JOSEPH | ROSECRANS MEMORIAL | FDC 0/0659 | LOC BC RWY 17, AMDT 8A...
08/31/00 | MO | ST JOSEPH | ROSECRANS MEMORIAL | FDC 0/0660 | NDB RWY 17, AMDT 8B...
08/31/00 | MO | ST JOSEPH | ROSECRANS MEMORIAL | FDC 0/0661 | VOR/DME RNAV OR GPS RWY 17, AMDT 4B...
08/31/00 | NM | GALLUP | GALLUP MUNI | FDC 0/0629 | LOC RWY 6, AMDT 3A...
08/31/00 | NM | GALLUP | GALLUP MUNI | FDC 0/0631 | VOR RWY 6, AMDT 7...
08/31/00 | OH | YOUNGSTOWN | YOUNGSTOWN ELSER METRO | FDC 0/0617 | VOR OR GPS-C, AMDT 1...
08/31/00 | OK | SAND SPRINGS | WILLIAM R. POGUE MUNI | FDC 0/0593 | VOR OR GPS-A, AMDT 1A...
08/31/00 | OK | SAND SPRINGS | WILLIAM R. POGUE MUNI | FDC 0/0594 | NDB RWY 35, AMDT 2...
08/31/00 | PA | HAZELTON | HAZELTON MUNI | FDC 0/0627 | VOR RWY 28, AMDT 8C...
09/01/00 | OH | CLEVELAND | BURKE LAKEFRONT | FDC 0/0698 | ILS RWY 24R, ORIG-A...
09/04/00 | AR | PINE BLUFF | GRIDER FIELD | FDC 0/0712 | GPS RWY 35, ORIG-A...
09/04/00 | AR | SEARCY | SEARCY MUNI | FDC 0/0716 | GPS RWY 19, AMDT 1A...
09/04/00 | AR | STUTTGART | STUTTGART MUNI | FDC 0/0706 | GPS RWY 36, ORIG...
09/04/00 | AR | STUTTGART | STUTTGART MUNI | FDC 0/0708 | GPS RWY 18, ORIG...
09/04/00 | AR | STUTTGART | STUTTGART MUNI | FDC 0/0709 | NDB RWY 18, AMDT 10A...
09/04/00 | GA | TIFTON | HENRY TIFT MYES | FDC 0/0714 | VOR OR GPS RWY 27, AMDT 9A...
09/05/00 | KS | HUTCHINSON | HUTCHINSON MUNI | FDC 0/0813 | GPS RWY 3, ORIG...
09/05/00 | KS | HUTCHINSON | HUTCHINSON MUNI | FDC 0/0814 | GPS RWY 21, ORIG...
09/05/00 | KS | HUTCHINSON | HUTCHINSON MUNI | FDC 0/0816 | VOR/DME RWY 21, AMDT 6...
09/05/00 | MA | HOPEDALE | HOPEDALE INDUSTRIAL PARK | FDC 0/0824 | GPS-A, ORIG...
09/05/00 | TX | COLLEGE STATION | EASTERWOOD FIELD | FDC 0/0832 | LOC BC RWY 16, AMDT 5B...
09/06/00 | KS | HUTCHINSON | HUTCHINSON MUNI | FDC 0/0858 | VOR RWY 3, AMDT 19A...
09/06/00 | MN | MINNEAPOLIS | MINNEAPOLIS-ST PAUL INTL (WOLD-CHAMBERLAIN) | FDC 0/0889 | ILS RWY 30R, AMDT 10...
09/06/00 | MO | ST LOUIS | LAMBERT-ST LOUIS INTL | FDC 0/0896 | VOR RWY 24, ORIG...
09/06/00 | OK | TULSA | TULSA INTL | FDC 0/0898 | HI-NDB OR ILS RWY 36R, AMDT 3...
09/06/00 | SD | ABERDEEN | ABERDEEN REGIONAL | FDC 0/0897 | GPS RWY 35, ORIG-A...
09/06/00 | WI | GREEN BAY | AUSTIN STRAUBEL INTL | FDC 0/0915 | NDB RWY 6, AMDT 17...
09/07/00 | CA | CHINO | CHINO | FDC 0/0949 | VOR OR GPS-B, AMDT 3A...
09/07/00 | KS | EL DORADO | CAPTAIN JACK THOMAS/EL DORADO | FDC 0/0925 | GPS RWY 33, ORIG-A...
09/07/00 | KS | WICHITA | WICHITA MID-CONTINENT | FDC 0/0961 | VOR/DME RNAV OR GPS RWY 19R, AMDT 1...
09/07/00 | KS | WICHITA | WICHITA MID-CONTINENT | FDC 0/0964 | GPS RWY 19L, ORIG...
09/07/00 | KS | WICHITA | WICHITA MID-CONTINENT | FDC 0/0966 | NDB OR GPS RWY 1R, AMDT 15...
09/07/00 | KS | WICHITA | WICHITA MID-CONTINENT | FDC 0/0967 | VOR/DME RNAV OR GPS RWY 1L, AMDT 1A...
09/07/00 | KS | WICHITA | WICHITA-MID CONTINENT | FDC 0/0956 | VOR OR GPS RWY 14, AMDT 1...
09/07/00 | LA | BATON ROUGE | BATON ROUGE METROPOLITAN/RYAN FIELD | FDC 0/0950 | VOR/DME RWY 22R, AMDT 8B...
09/07/00 | LA | BATON ROUGE | BATON ROUGE METROPOLITAN/RYAN FIELD | FDC 0/0951 | VOR OR GPS RWY 4L, AMDT 16B...
09/07/00 | MN | INTERNATIONAL FALLS | FALLS INTL | FDC 0/0953 | VOR OR GPS RWY 13, AMDT 13...
09/07/00 | MN | INTERNATIONAL FALLS | FALLS INTL | FDC 0/0958 | LOG BC RWY 13, AMDT 9...
09/07/00 | NM | ROSWELL | ROSWELL INDUSTRIAL AIR CENTER | FDC 0/0945 | GPS RWY 35, ORIG-A...
09/07/00 | OH | YOUNGSTOWN | YOUNGSTOWN ELSER METRO | FDC 0/0983 | GPS RWY 28, ORIG...
09/08/00 | AZ | KINGMAN | KINGMAN | FDC 0/1048 | VOR/DME OR GPS RWY 21, AMDT 6A...
09/08/00 | AZ | SHOW LOW | SHOW LOW MUNI | FDC 0/1046 | NDB OR GPS-A, ORIG-A...
09/08/00 | AZ | TUCSON | TUCSON INTL | FDC 0/1047 | VOR OR TACAN OR GPS RWY 11L, ORIG...
09/08/00 | KS | WICHITA | WICHITA MID-CONTINENT | FDC 0/1039 | GPS RWY 32, ORIG...
09/08/00 | LA | OAKDALE | ALLEN PARISH | FDC 0/1031 | NDB RWY 35, ORIG-A...
09/08/00 | MO | ST LOUIS | SPIRIT OF ST LOUIS | FDC 0/1054 | ILS RWY 8R, AMDT 13A...
09/08/00 | MO | ST LOUIS | SPIRIT OF ST LOUIS | FDC 0/1055 | NDB RWY 8R, AMDT 11B...
09/11/00 | VA | LYNCHBURG | LYNCHBURG REGIONAL/PRESTON GLENN FIELD | FDC 0/1137 | ILS RWY 3, AMDT 15...
09/11/00 | VA | LYNCHBURG | LYNCHBURG REGIONAL/PRESTON GLENN FIELD | FDC 0/1138 | VOR OR GPS RWY 3, AMDT 11C...
09/11/00 | VA | LYNCHBURG | LYNCHBURG REGIONAL/PRESTON GLENN FIELD | FDC 0/1139 | VOR/DME RWY 21, AMDT 8A...
09/11/00 | VA | LYNCHBURG | LYNCHBURG REGIONAL/PRESTON GLENN FIELD | FDC 0/1140 | GPS RWY 21, ORIG-A...
09/12/00 | CA | WATSONVILLE | WATSONVILLE MUNI | FDC 0/1211 | LOC RWY 2, AMDT 2C...
09/12/00 | FL | CROSS CITY | CROSS CITY | FDC 0/1171 | VOR OR GPS RWY 31, AMDT 17...
09/12/00 | OK | TULSA | TULSA INTL | FDC 0/1170 | NDB RWY 18L, AMDT 10A...
09/13/00 | AL | TALLADEGA | TALLADEGA MUNI | FDC 0/1243 | VOR OR GPS-A, AMDT 6...
09/13/00 | AL | TALLADEGA | TALLADEGA MUNI | FDC 0/1244 | VOR/DME RWY 3, AMDT 4A...
09/13/00 | FL | JACKSONVILLE | JACKSONVILLE INTL | FDC 0/1271 | VOR OR GPS RWY 31, ORIG-B...
09/13/00 | IL | CHICAGO | CHICAGO MIDWAY | FDC 0/1265 | ILS RWY 4R, AMDT 9A...
09/13/00 | IL | CHICAGO | CHICAGO MIDWAY | FDC 0/1266 | ILS RWY 13C, AMDT 40...
09/13/00 | IL | CHICAGO | CHICAGO MIDWAY | FDC 0/1267 | ILS RWY 31C, AMDT 5C...
09/13/00 | IL | CHICAGO | CHICAGO MIDWAY | FDC 0/1268 | NDB OR GPS RWY 31C, AMDT 14B...
09/13/00 | IL | CHICAGO | CHICAGO MIDWAY | FDC 0/1269 | NDB OR GPS RWY 4R, AMDT 12B...
09/13/00 | IL | CHICAGO | CHICAGO MIDWAY | FDC 0/1270 | VOR/DME RNAV OR GPS RWY 22L, AMDT 3A...
09/13/00 | LA | NEW ORLEANS | LAKEFRONT | FDC 0/1262 | VOR RWY 18R, AMDT 4...
09/13/00 | NH | LACONIA | LACONIA MUNI | FDC 0/1275 | ILS RWY 8, ORIG-A...
09/13/00 | TX | ANDREWS | ANDREWS COUNTY | FDC 0/1255 | GPS RWY 15, ORIG...
09/13/00 | TX | PORT ISABEL | PORT ISABEL-CAMERON COUNTY | FDC 0/1260 | GPS RWY 13, ORIG...
09/14/00 | IL | CHICAGO | CHICAGO-O'HARE INTL | FDC 0/1311 | ILS RWY 22L, AMDT 4C...

[FR Doc. 00-24292 Filed 9-20-00; 8:45 am]

BILLING CODE 4910-13-M